DEPARTMENT OF THE INTERIOR

Bureau of Land Management

[LLMT930000-12-L18200000-XX0000]

Notice of Administrative Boundary Change for Bureau of Land Management Offices in Montana To Eliminate the County Split of Lewis and Clark County

AGENCY: Bureau of Land Management, Interior.

ACTION: Notice.

SUMMARY: The administrative boundaries between the Central Montana District Office, Lewistown Field Office, and the Western Montana District Office, Butte Field Office, are being changed. The administrative boundary change will realign Lewis and Clark County, currently a split county between the two offices, to the Western Montana District Office, Butte Field Office.

DATES: The boundary change is effective October 1, 2011.

FOR FURTHER INFORMATION CONTACT: Gary Benes by telephone at (406) 538-1945 or by email at gbenes@blm.gov; or Richard Hotaling by telephone at (406) 533-7629 or by email at rhotalin@blm.gov; or Scott Haight by telephone at (406) 533-7630 or by email at shaight@blm.gov. Persons who use a telecommunications device for the deaf (TDD) may call the Federal Information Relay Service (FIRS) at 1-(800) 877-8339 to contact the above individuals during normal business hours. The FIRS is available 24 hours a day, 7 days a week, to leave a message or question with the above individuals. You will receive a reply during normal business hours.

SUPPLEMENTARY INFORMATION: The primary purpose of the administrative boundary change is to improve service to the public and coordination efforts with local, Federal, State, and county agencies. The benefits of this change will result in the following improvements:

• Consolidation of resource receipts, workloads (i.e., range, forestry, recreation) into one office location;

• Consolidation of law enforcement coordination between the county sheriff and one BLM office;

• Consolidation of fire response and coordination between the county interagency dispatch and one BLM office; and

• Improved coordination with local and county officials on a number of land resource issues such as lands and realty, rights-of-way, and land use planning.

The boundaries for the Butte Field Office are described as follows:

Butte Field Office

The Bureau of Land Management, Butte Field Office administrative boundary now encompasses all of Broadwater, Deer Lodge, Gallatin, Jefferson, Lewis and Clark, Park, Silver Bow and the northern portion of Beaverhead Counties, in the state of Montana.

Authority: BLM Manual 1203 Delegation of Authority Sec 1202 and Sec 1201 relates to functions of BLM. The delegation manual shows the various delegations of functions to BLM officials, et al., which includes “Approve changes in District and Field Office boundaries.” (See the table of delegations in the manual, specifically subject code 1202). This authority is retained by the Director, with concurrence by the “Office of the Assistant Secretary” (see footnote 3 in the 1203 Manual).

Jamie E. Connell,
State Director.

[FR Doc. 2011-31651 Filed 12-8-11; 8:45 am]

BILLING CODE 4310-DN-P